DEPARTMENT OF LABOR

Office of the Secretary

Submission for OMB Emergency Review; Comment Request

May 20, 2003.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by June 20, 2003. A copy of this ICR, with applicable supporting documentation, may be obtained by calling the Department of Labor. To obtain documentation, contact Darrin King on 202-693-4129 (this is not a toll-free number) or e-mail: king.darrin@dol.gov.

Comments and questions about the ICR listed below should be forwarded to the Office of Information and Regulatory Affairs, Attn: OMB Desk Officer for the Employment and Training Administration, Room 10235, Washington, DC 20503. The Office of Management and Budget is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

Agency: Employment and Training Administration (ETA).

Title: Reporting for Temporary Extended Unemployment Compensation Program for Displaced Airline Workers.

OMB Number: 1205-NEW.

Affected Public: Business or other for-profit and State, Local, or Tribal government.

Number of Respondents: 40,000.

Annualized Reporting Burden (time measured in hours):

Annual responses | Estimated time per response | Total burden
Employer 40,000 | .25 | 10,000
State 40,000 | .50 | 20,000
Total: |  | 30,000

Total Burden Cost (capital/startup): $0.

Total Burden Cost (operating/maintaining): $0.

Description: On April 16, 2003, President Bush signed into law an enhancement to the Temporary Extended Unemployment Compensation (TEUC) program. This enhancement created special rules for determining TEUC eligibility for certain displaced airline related workers. Such workers may qualify for an additional 26 weeks of basic TEUC benefits if the worker became unemployed as a result of terrorist actions of September 11, 2001 as a result of security responses to these attacks or the closing of an airport, or as a result of the military conflict in Iraq. To determine TEUC eligibility for these displaced airline and related workers specific information from employers will need to be collected. Approval is being sought for this collection of information.

Ira L. Mills,
Departmental Clearance Officer.

[FR Doc. 03-13124 Filed 5-23-03; 8:45 am]

BILLING CODE 4510-30-M